DEPARTMENT OF COMMERCE

Census Bureau

2002 Census of Governments Prelist Survey of Special Districts; Proposed Collection

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before October 3, 2000.

ADDRESSES: Direct all written comments to Linda Engelmeier, Departmental Forms Clearance Officer, Department of Commerce, Room 6086, 14th and Constitution Avenue, NW, Washington, DC 20230 (or via the Internet at LEngelme@doc.gov).

FOR FURTHER INFORMATION CONTACT: Requests for additional information or copies of the information collection instrument(s) and instructions should be directed to Robert McArthur, Chief, Program Evaluation Branch, Governments Division, U.S. Census Bureau, Washington, DC 20233-6800 (301-457-1582).

SUPPLEMENTARY INFORMATION:

I. Abstract

The U.S. Census Bureau plans to request approval of data collection Form G-24, Prelist Survey of Special Districts. This form will be used to verify the existence of special districts for the 2002 Census of Governments, to obtain current mailing addresses, and to identify new districts. The quinquennial Census of Governments enumerates five types of local governments: county governments, municipal governments, township governments, school district governments, and special district governments. Lists of county, municipal, and township governments are kept up-to-date through the Boundary and Annexation Survey conducted annually by the Geography Division of the Bureau of the Census. School district governments and other “local education agencies” are kept current through data sharing arrangements with state education agencies and the National Center for Education Statistics. However, there is no national source of information on special district governments. We, therefore, enlist the help of county clerks and other county officials to provide information on changes in special districts, including the creation of new districts, disincorporation of existing districts, and address changes. An updated list is necessary for subsequent phases of the Census of Governments to ensure complete coverage and to minimize the need for remailings caused by inaccurate addresses.

II. Method of Collection

Each of 3,039 counties, consolidated city-county governments, and independent cities designated for the survey will be sent a printed list of previously identified special districts within their county areas. Respondents will be requested to review and update the list to identify those districts that are no longer active, districts with address changes, and districts that are not included in the list. For new special districts, respondents will be requested to provide, in addition to the district name, mailing addresses and the names of counties included in the service area.

The feasibility of electronic data collection will be explored in two states (as yet undetermined) by providing along with the printed paper requests instructions for accessing and reporting on spreadsheet files. Spreadsheet files will be prepared for each of the respondent counties to update and passwords provided to each respondent.

In addition, in keeping with Governments Division policy, we will accept printouts of respondents' own files and electronic responses prepared from respondents' own files.

III. Data

OMB Number: None.

Form Number: G-24.

Type of Review: Regular.

Affected Public: County governments, consolidated city-county governments, and independent cities.

Estimated Number of Respondents: 3,039.

Estimated Time Per Response: 0.5 hours.

Estimated Total Annual Burden Hours: 1,520.

Estimated Total Annual Cost: $24,335.

Respondent's Obligation: Voluntary.

Legal Authority: Title 13 U.S.C. Section 161.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 31, 2000.
Madeleine Clayton,
Management Analyst, Office of the Chief Information Officer.

[FR Doc. 00-19719 Filed 8-3-00; 8:45 a.m.]

BILLING CODE 3510-07-P